FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning the proposed extension of an existing information collection.

Title: Make Your Mark on the Floodplain-High Water Mark Form.

Type of Information Collection: Extension of a currently approved collection.

OMB Number: 3067-0268.

FEMA Form: 81-101.

Abstract. The Federal Emergency Management Agency (FEMA) has entered into a partnership with the U.S. Army Corps of Engineers (COE) in the Portland District to assist the Agency in providing floodplain management assistance at the most basic and needed level, that of local floodplain managers and the local communities. The joint efforts of FEMA and the COE continue to assure safe and sound developments near floodplains. The Make Your Mark on the Floodplain handout and accompanying High Water Mark Form is used to establish uniform and consistent methodologies for setting and recovering high water marks following a significant flood event. After a major flood, anyone who has high water marks on their property or who has observed flood marks on public property can use the form to record high water mark information, including location, measurements, and description of the marks read. The data will be used by FEMA in post-flood damage assessments. The data will define a frequency/damage relationship for the flooding event and provide calibration information for future analysis. The U. S. Army Corps of Engineers will assist FEMA in collecting and compiling high water mark data.

Affected Public: Individuals and households, business or other for profit, non-profit institutions, farms, and state, local or tribal government.

Number of Respondents: 7,500.

Estimated Time per Respondent: 20 minutes.

Estimated Total Annual Burden Hours: 2,500 hours.

Frequency of Response: On occasion (after each significant flood event).

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW, Room 316, Washington, DC 20472. Telephone number (202) 646-2625. FAX number (202) 646-3524 or email muriel.anderson@fema.gov.

FOR FURTHER INFORMATION CONTACT: Contact Carl L. Cook, Jr., Chief, Mitigation Programs Branch, Federal Emergency Management Agency, Region X, 130 228th Street S. W., Bothell, WA 98021-9796, (425) 487-4687 for additional information. Contact Ms. Anderson at (202) 646-2625 for copies of the proposed collection of information

Mike Bozzelli,
Acting Director,
Program Services Division, Operations Support Directorate.

[FR Doc. 00-1226 Filed 1-18-00; 8:45 am]

BILLING CODE 6718-01-P